DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Business and Professional Classification Report.

OMB Control Number: 0607-0189.

Form Number(s): SQ-CLASS(00).

Type of Request: Revision of a currently approved collection.

Burden Hours: 14,519.

Number of Respondents: 67,000.

Average Hours per Response: 13 minutes.

Needs and Uses: The Economic Census and current business surveys represent the primary source of facts about the structure and function of the U.S. economy, providing essential information to government and the business community in making sound decisions. This information helps build the foundation for the calculation of Gross Domestic Product (GDP) and other economic indicators. Crucial to its success is the accuracy and reliability of the Business Register data, which provides the Economic Census and current business surveys with their establishment lists.

Critical to the quality of data in the Business Register is that establishments are assigned an accurate economic classification, based on the North American Industry Classification System (NAICS). The primary purpose of the “Business and Professional Classification Report” or SQ-CLASS(00), is to meet this need for the services sector of the economy. The services sector includes establishments classified in retail trade; wholesale trade; finance and insurance; real estate and rental and leasing; transportation and utilities; and other services-related industries. Establishments will be mailed five-year Economic Census forms specifically tailored to their industry based on the classification information we collect from the SQ-CLASS survey. In addition, the SQ-CLASS report is used to collect information needed to update the services sector sampling frame.

To keep current with rapid changes in the marketplace caused by businesses births, deaths, and changes in company organization, the Census Bureau samples establishments with newly assigned Employer Identification Numbers (EINs) obtained from the Internal Revenue Service (IRS) and the Social Security Administration (SSA). Each EIN unit can only be selected once for the survey. EIN units selected for the sample are asked to provide data on the establishment(s) associated with the new EIN. The completed SQ-CLASS form provides sales, receipts, or revenue data; company organization status; new or refined NAICS codes; and other key information needed to maintain proper coverage of the business universe.

Based on information collected on the SQ-CLASS form, EIN units meeting the criteria for inclusion in the Census Bureau's current services sector surveys are eligible for a second phase of sampling. The retail and wholesale EIN units selected in this second sampling are placed on a panel to report on monthly surveys. Additional selected units are included on a panel to report on annual surveys. The other selected services sector EIN units report on an annual and/or quarterly basis.

There are minimal changes to the SQ-CLASS form. An inquiry will be added to determine not-for-profit status, which will be used for data collection purposes. This will ensure that the proper current survey form is sent to the business if it is selected into a survey. Minimal changes will be made to the wording and organization of existing questions and instructions. Also, for the first time, respondents will have the option to respond electronically via the Internet.

The Census Bureau selects a first phase sample of EINs recently assigned by the IRS. Selected EIN units are mailed a SQ-CLASS form to determine measure of size (based on sales, receipts, or revenue); industry classification; company organization; wholesale inventories and type of operation data; not-for-profit status; and other useful information. EIN units not affiliated with previously selected units are eligible for second phase sampling, with selected sampling units added to a survey panel. This methodology updates the current surveys' sampling frame with a sample of new firms entering the services sector. The information obtained from the SQ-CLASS form is also used in tabulating data for small businesses in succeeding economic censuses (because small businesses are not mailed an economic census report form), and for the Census Bureau's County Business Patterns program, which is conducted on an annual basis.

Although no statistical tables are prepared or published, the operations of this business birth survey directly and critically affect the quality of the estimates published for the Advance Monthly Retail Trade and Food Services Survey (OMB Approval 0607-0104); Monthly Wholesale Trade Survey (OMB 0607-0190); Services Annual Survey (OMB Approval 0607-0422); Annual Retail Trade Survey (OMB Approval 0607-0013); Annual Wholesale Trade Survey (OMB Approval 0607-0195); and Quarterly Service Survey (OMB Approval 0607-0907), since this business birth survey keeps the sample universe current.

Affected Public: Business or other for-profit; Not-for-profit Institutions.

Frequency: One time.

Respondent's Obligation: Mandatory.

Legal Authority: Title 13, United States Code, Sections 182 and 193.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 29, 2010.
Glenna Mickelson,
Management Analyst, Office of the Chief Information Officer.

[FR Doc. 2010-16293 Filed 7-2-10; 8:45 am]

BILLING CODE 3510-07-P